AGENCY FOR INTERNATIONAL DEVELOPMENT

Senior Executive Service: Membership of Performance Review Board

ACTION: Notice.

SUMMARY: The following persons are members of the Performance Review Board for 2004.

Members: Marilyn S. Marton, SES Member, Chair; James E. Painter, SES Member; Jessalyn L. Pendarvis, SES Member; Gloria D. Steele, SES Member; Franklin C. Moore, SES Member.

FOR FURTHER INFORMATION CONTACT: Lynn Mason (202) 712-1286.

Dated: December 8, 2004.
Lee Roussel,
Chief, M/HR/EM.

[FR Doc. 04-27286 Filed 12-10-04; 8:45 am]

BILLING CODE 6116-01-M